DEPARTMENT OF DEFENSE

Department of the Army; Corps of Engineers

Chief of Engineers Environmental Advisory Board; Meeting

AGENCY: Department of the Army, U.S. Army Corps of Engineers, DoD.

ACTION: Notice of open meeting.

SUMMARY: In accordance with 10(a)(2) of the Federal Advisory Committee Act (Pub. L. 92-463), announcement is made of the forthcoming meeting.

Name of Committee: Chief of Engineers Environmental Advisory Board (EAB).

Date: January 19, 2012.

Time: 9 a.m. through 12 p.m.

Location: U.S. Government Accountability Office Building, 441 G Street Northwest, Washington, DC 20548-0002 (202) 512-6000.

Agenda: The Board will advise the Chief of Engineers on environmental policy, identification and resolution of environmental issues and missions, and addressing challenges, problems and opportunities in an environmentally sustainable manner. Discussions and presentations during this meeting will focus on ecosystem restoration through integrated water resources management, including discussion of the potential effects of climate change. Following the discussions and presentations there will be a public comment period.

FOR FURTHER INFORMATION CONTACT: Mr. John C. Furry, Designated Federal Officer, Headquarters, U.S. Army Corps of Engineers, 441 G Street NW., Washington, DC 20314-1000; john.c.furry@usace.army.mil, Ph: (202) 761-5875.

SUPPLEMENTARY INFORMATION: This meeting will be open to the public. Any interested person may attend. However, anyone attending the meeting must enter at the G Street entrance of the GAO Building, present valid government issued identification, and pass through the security station. All visitors must be escorted while in the building. Although the primary purpose of this meeting is for the Chief of Engineers to receive the views of his EAB; thirty minutes will be set aside for public comment. Anyone who wishes to speak must register prior to the start of the meeting. Registration will be from 8 until 8:45 a.m. Each speaker will be limited to three minutes.

Brenda S. Bowen,
Army Federal Register Liaison Officer.

[FR Doc. 2011-33223 Filed 12-27-11; 8:45 am]

BILLING CODE 3720-58-P